ENVIRONMENTAL PROTECTION AGENCY

40 CFR Part 52

[EPA-R09-OAR-2015-0399; FRL-9958-09-Region 9]

Air Plan Approval; Nevada, Lake Tahoe; Second 10-Year Carbon Monoxide Limited Maintenance Plan

AGENCY: Environmental Protection Agency (EPA).

ACTION: Proposed rule.

SUMMARY: The Environmental Protection Agency (EPA) is proposing approval of a State Implementation Plan (SIP) revision submitted by the State of Nevada (“State”). On December 15, 2003, the EPA redesignated the Lake Tahoe, Nevada area (area), consisting of the Nevada portion of the Lake Tahoe basin in Nevada's Washoe, Carson City and Douglas counties, from nonattainment to attainment for the carbon monoxide (CO) national ambient air quality standards (NAAQS) and approved the State's plan addressing the area's maintenance of the CO NAAQS for ten years. On April 3, 2012, the State submitted to the EPA a second CO maintenance plan for the area that addressed maintenance of the CO NAAQS through 2024. On August 26, 2016, the State submitted a supplement to their 2012 submittal. The EPA is also proposing to approve an alternative CO monitoring strategy for the area, that the State included in their August 2016 submittal. We are making this proposal under the Clean Air Act.

DATES: Any comments on this proposal must arrive by April 10, 2017.

ADDRESSES: Submit your comments, identified by Docket ID No. EPA-R09-OAR-2015-0399 at http://www.regulations.gov, or via email to John Kelly, Air Planning Office, at kelly.johnj@epa.gov. For comments submitted at Regulations.gov, follow the online instructions for submitting comments. Once submitted, comments cannot be removed or edited from Regulations.gov. For either manner of submission, the EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e. on the web, cloud, or other file sharing system). For additional submission methods, please contact the person identified in the FOR FURTHER INFORMATION CONTACT section. For the full EPA public comment policy, information about CBI or multimedia submissions, and general guidance on making effective comments, please visit http://www2.epa.gov/dockets/commenting-epa-dockets.

FOR FURTHER INFORMATION CONTACT: John Kelly, EPA Region IX, (415) 947-4151, kelly.johnj@epa.gov.

SUPPLEMENTARY INFORMATION: Throughout this document, “we,” “us” and “our” refer to the EPA. This proposal addresses the following local plan, “2012 Revision to the Nevada State Implementation Plan for Carbon Monoxide: Updated Limited Maintenance Plan, for the Nevada Side of the Lake Tahoe Basin, Including Douglas, Carson City and Washoe Counties.”

In the Rules and Regulations section of this Federal Register, we are approving this local plan in a direct final action without prior proposal because we believe this SIP revision is not controversial. If we receive adverse comments, however, we will publish a timely withdrawal of the direct final rule and address the comments in subsequent action based on this proposed rule.

We do not plan to open a second comment period, so anyone interested in commenting should do so at this time. If we do not receive adverse comments, no further activity is planned. For further information, please see the direct final action.

Dated: December 22, 2016.
Deborah Jordan,
Acting Regional Administrator, Region IX.

[FR Doc. 2017-04770 Filed 3-9-17; 8:45 am]

BILLING CODE 6560-50-P